DEPARTMENT OF COMMERCE

National Oceanic and Atmospheric Administration

50 CFR Part 622

[I.D. 012302E]

Fisheries of the Caribbean, Gulf of Mexico, and South Atlantic; Snapper-Grouper Fishery off the Southern Atlantic States; Amendment 13

AGENCY: National Marine Fisheries Service (NMFS), National Oceanic and Atmospheric Administration (NOAA), U.S. Department of Commerce.

ACTION: Notice of intent to prepare a draft supplemental environmental impact statement (DSEIS); request for comments.

SUMMARY: The South Atlantic Fishery Management Council (Council) intends to prepare a DSEIS to assess the impacts on the natural and human environment of the management measure proposed in its draft Amendment 13 to the Fishery Management Plan for the Snapper-Grouper Fishery of the South Atlantic Region (FMP).

DATES: Written comments on the scope of issues to be addressed in the preliminary DSEIS will be accepted through March 4, 2002.

ADDRESSES: Comments and requests for copies of the DSEIS should be sent to Robert K. Mahood, Executive Director, South Atlantic Fishery Management Council, One Southpark Circle, Suite 306, Charleston, SC 29407-4699, FAX: 843-769-4520; email: robert.mahood@noaa.gov.

FOR FURTHER INFORMATION CONTACT: Kim Iverson, Public Information Office; 843-571-4366 or kim.iverson@noaa.gov.

SUPPLEMENTARY INFORMATION: The snapper grouper fishery off the South Atlantic States in the exclusive economic zone is managed under the FMP. Following Council preparation, the FMP was approved and implemented by NMFS under the authority of the Magnuson-Stevens Fishery Conservation and Management Act (Magnuson-Stevens Act) in March of 1983. Currently, the Council is preparing draft FMP Amendment 13 and a DSEIS as an integrated part of the Amendment. The DSEIS will discuss the proposed Amendment 13 management measures in conjunction with reasonable alternatives. Each alternative will be assessed in relation to the environmental consequences with a no-action alternative considered as one of the options.

In the snapper grouper complex, 12 species are currently overfished, six species are not approaching an overfished condition nor is overfishing occurring, and the status of the remaining species is unknown. Once it is determined that overfishing is occurring, the Magnuson-Stevens Act requires that the Council take action to develop a rebuilding plan. Amendment 13 proposes the establishment of rebuilding timeframes for the overfished species within the snapper-grouper management unit.

To prevent overfishing, the Magnuson-Stevens Act and the subsequent Sustainable Fisheries Act amendments provide national standards that must be satisfied within the FMPs. The National Standards establish parameters, including maximum sustainable yield (MSY), optimum yield (OY), minimum stock size threshold (MSST), and maximum fishing mortality rate threshold (MFMT), which are used to avoid overfished situations. Currently, static spawning potential ratio proxies are used to define MSY, OY, and MFMT. In Amendment 13, the Council intends to establish values for MSY, OY, MFMT, and MSST for each of the species in the snapper-grouper management unit, contingent upon the availability of sufficient scientific information.

Additionally, the Council is considering that the following management measures be included in Amendment 13: commercial permit transfers; adjusting the harvest and/or possession of all species in the deepwater grouper/tilefish fishery; prohibiting all possession and sale of red porgy, greater amberjack, and mutton snapper during spawning season closures for that species; extending the Oculina Experimental Closed Area for an additional time period; removing queen triggerfish from the snapper-grouper management unit; increasing the recreational size limit of greater amberjack; modifying the minimum mesh size regulations for black sea bass pots; modifying current red porgy regulations; establishing a program to collect fees from the wreckfish industry; establishing a program to collect data on snapper and grouper permits as they are sold; and establishing a protocol for the collection of data for Endangered Species Act/section 7 consultation.

A scoping meeting to determine the scope of significant issues to be addressed in the DSEIS and the associated Amendment 13 will be conducted at the Council's March 4-8, 2002, meeting in Savannah, GA.

Following consideration of public comments, the Council intends to finalize and approve draft Amendment 13 to the FMP and the DSEIS for public hearings in 2002. These documents are expected to be released for public comment and filed with the Environmental Protection Agency in 2003.

Authority: 6 U.S.C. 1801 et seq.

Dated: January 25, 2002.
Jonathan Kerland,
Acting Director, Office of Sustainable Fisheries, National Marine Fisheries Service.

[FR Doc. 02-2301 Filed 1-30-02; 8:45 am]

BILLING CODE 3510-22-S